DEPARTMENT OF THE TREASURY

Office of Foreign Assets Control

Publication of Iran General Licenses E and F

AGENCY: Office of Foreign Assets Control, Treasury.

ACTION: Notice, publication of general licenses.

SUMMARY: The Department of the Treasury's Office of Foreign Assets Control (“OFAC”) is publishing General License E and General License F issued under the Iranian transactions sanctions program on September 10, 2013. General License E authorizes certain services in support of nongovernmental organizations' activities in Iran, subject to certain limitations. General License F authorizes certain services in support of professional and amateur sports activities and exchanges involving the United States and Iran, subject to certain limitations.

DATES: Effective Date: September 10, 2013.

FOR FURTHER INFORMATION CONTACT: Assistant Director for Licensing, tel.: 202-622-2480, Assistant Director for Policy, tel.: 202-622-2402, Assistant Director for Regulatory Affairs, tel.: 202-622-4855, Assistant Director for Sanctions Compliance & Evaluation, tel.: 202-622-2490, Office of Foreign Assets Control, or Chief Counsel (Foreign Assets Control), tel.: 202-622-2410, Office of the General Counsel, Department of the Treasury, Washington, DC (not toll free numbers).

SUPPLEMENTARY INFORMATION:

Electronic and Facsimile Availability

This document and additional information concerning OFAC are available from OFAC's Web site (www.treasury.gov/ofac). Certain general information pertaining to OFAC's sanctions programs also is available via facsimile through a 24-hour fax-on-demand service, tel.: 202/622-0077.

Background

On September 10, 2013, OFAC issued General License E authorizing certain services in support of nongovernmental organizations' activities in Iran, subject to certain limitations, under the Iranian transactions sanctions program. Also on September 10, 2013, OFAC issued General License F authorizing certain services in support of professional and amateur sports activities and exchanges involving the United States and Iran, subject to certain limitations.

At the time of their issuance on September 10, 2013, OFAC made General License E and General License F available on the OFAC Web site (www.treasury.gov/ofac). With this notice, OFAC is publishing General License E and General License F in the Federal Register.

General License E

Authorizing Certain Services in Support of Nongovernmental Organizations' Activities in Iran

(a) Except as provided in paragraph (d) of this general license, nongovernmental organizations (“NGOs”) are authorized to export or reexport services to or related to Iran in support of the following not-for-profit activities that are designed to directly benefit the Iranian people:

(1) Activities related to humanitarian projects to meet basic human needs in Iran, including, but not limited to, the provision of donated health-related services; operation of orphanages; provision of relief services related to natural disasters; distribution of donated articles, such as food, clothing, and medicine, intended to be used to relieve human suffering; and donated training related to any of the foregoing activities;

(2) Activities related to non-commercial reconstruction projects in response to natural disasters in Iran for a period of up to two years following the natural disaster;

(3) Activities related to environmental and wildlife conservation projects in Iran, involving endangered species of fauna and flora and their supporting habitats; and

(4) Activities related to human rights and democracy building projects in Iran, including, but not limited to, the sponsorship of and attendance and training at conferences in Iran related to human rights projects, democracy building, or civil society development; efforts to increase access to information and freedom of expression; and public advocacy, public policy advice, polling, or surveys relating to human rights and democracy building.

(b) Transfers of funds in support of the activities outlined in section (a) above by a single NGO may not exceed USD$500,000 in the aggregate over a 12-month period.

(c) NGOs who engage in conduct pursuant to this general license must submit reports on a quarterly basis, providing information including, but not limited to, a detailed description of the services exported or reexported to Iran, any Iranian NGOs, Government of Iran entities, Iranian financial institutions, or other Iranian persons involved in the activities; the dollar amounts of any transfers to Iran; and the beneficiaries of those transfers. Reports must be filed with the Licensing Division, Office of Foreign Assets Control, U.S. Department of the Treasury, 1500 Pennsylvania Avenue NW., Washington, DC 20220, and with the Office of Sanctions Policy and Implementation, U.S. Department of State, 2201 C Street NW., Washington, DC 20520.

(d) This general license does not authorize:

(1) The exportation or reexportation of services specified in section (a) of this general license to any person whose property and interests in property are blocked pursuant to any part of 31 CFR chapter V other than part 560.

(2) Any activities in furtherance of Iranian military or industrial infrastructure or potential, or in connection with the Iranian energy, automobile, shipping, and shipbuilding sectors.

(3) Any transaction by a U.S.-owned or -controlled foreign entity otherwise prohibited by 31 CFR 560.215 if the transaction would be prohibited by any other part of chapter V if engaged in by a U.S. person or in the United States.

Note 1 to General License E: Please see 31 CFR 560.545 for a specific licensing policy for activities not specified in section (a) of this general license. Additionally, please see 31 CFR 560.210(b), which exempts from the prohibitions of 31 CFR 560.204 and 560.206 donations by U.S. persons of articles, such as food, clothing, and medicine, intended to be used to relieve human suffering.

Note 2 to General License E: United States depository institutions or United States registered brokers or dealers in securities are authorized to process transfers of funds in furtherance of activities authorized by this general license so long as the transfer is consistent with 31 CFR 560.516. United States depository institutions or United States registered brokers or dealers in securities may rely on the originator of the funds transfer with regard to compliance with paragraphs (a) and (b) of this general license, provided that the United States depository institution or the United States registered broker or dealer in securities does not know or have reason to know that the funds transfer is not in compliance with paragraphs (a) and (b) of this general license.

Issued: September 10, 2013.

General License F

Authorizing Certain Services in Support of Professional and Amateur Sports Activities and Exchanges Involving the United States and Iran

(a) Except as provided in paragraph (b) of this general license, the importation of Iranian-origin services into the United States or other dealing in such services, and the exportation or reexportation of services, directly or indirectly, from the United States or by a United States person related to professional and amateur sporting activities and exchanges involving the United States and Iran are authorized, including, but not limited to, activities related to exhibition matches and events, the sponsorship of players, coaching, refereeing, and training.

(b) This general license does not authorize the exportation or reexportation of services specified in section (a) of this general license to any person whose property and interests in property are blocked pursuant to any part of 31 CFR chapter V other than part 560.

Note 1 to General License F: United States depository institutions or United States registered brokers or dealers in securities are authorized to process transfers of funds in furtherance of activities authorized by this general license so long as the transfer is consistent with 31 CFR 560.516.

Note 2 to General License F: This general license does not authorize any transaction by a U.S.-owned or -controlled foreign entity otherwise prohibited by 31 CFR 560.215 if the transaction would be prohibited by any other part of chapter V if engaged in by a U.S. person or in the United States.

Issued: September 10, 2013.
Dated: February 11, 2014.
Adam J. Szubin,
Director, Office of Foreign Assets Control.

[FR Doc. 2014-04035 Filed 2-26-14; 8:45 am]

BILLING CODE 4810-AL-P